ENVIRONMENTAL PROTECTION AGENCY

40 CFR Part 180

[EPA-HQ-OPP-2015-0032; FRL-9952-19]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before November 17, 2016.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, Registration Division (RD) (7505P), main telephone number: (703) 305-7090; email address: RDFRNotices@epa.gov. The mailing address for each contact person is: Office of Pesticide Programs, Environmental Protection Agency, 1200 Pennsylvania Ave., NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 5E8431. (EPA-HQ-OPP-2016-0087). Bayer CropScience LP, 2 T.W. Alexander Dr., Research Triangle Park, NC, requests to establish a tolerance in 40 CFR part 180.435 for residues of the insecticide, deltamethrin, in or on orange, fruit at 0.3 ppm, orange, dried pulp at 3 ppm, and orange, oil at 50 ppm. The gas chromatography equipped with an electron capture detector (GC/ECD) is used to measure and evaluate the chemical cis-deltamethrin, alpha-R-deltamethrin and trans-deltamethrin. Contact: RD.

2. PP 6E8482. (EPA-HQ-OPP-2016-0352). Interregional Research No 4 (IR-4) Project, Rutgers, The State University of New Jersey, 500 College Road East, Suite 201 W., Princeton, NJ 08540, requests to establish a tolerance in 40 CFR part 180.442 for residues of the insecticide, Bifenthrin (2-methyl [1,1′-biphenyl]-3-yl) methyl-3-(2-chloro-3,3,3,-trifluoro-1-propenyl)-2,2-dimethylcyclopropanecarboxylate in or on apple, wet pomace at 1.3 ppm; avocado at 0.50 ppm; berry, low growing, subgroup 13-07G at 3.0 ppm; brassica, leafy greens, subgroup 4-16B at 15 ppm; caneberry subgroup 13-07A at 1.0 ppm; fruit, citrus, group 10-10 at 0.05 ppm; fruit, pome, group 11-10, except mayhaw, at 0.70 ppm; fruit, small, vine climbing, except fuzzy kiwifruit, subgroup 13-07F at 0.20 ppm; nut, tree, group 14-12 at 0.05 ppm; peach, subgroup 12-12B at 0.70 ppm; pepper/eggplant subgroup 8-10B at 0.50 ppm; pomegranate at 0.50 ppm; and tomato, subgroup 8-10A at 0.30 ppm. The GC/ECD is used to measure and evaluate the chemical bifenthrin. Contact: RD.

3. PP 6E8483. (EPA-HQ-OPP-2016-0448). IR-4, Rutgers, The State University of New Jersey, 500 College Road East, Suite 201-W, Princeton, NJ 08540, requests to establish tolerances in 40 CFR part 180.686 for residues of the fungicide, benzovindiflupyr (N-[9-(dichloromethylene)-1,2,3,4-tetrahydro-1,4-methanonaphthalen-5-yl]-3-(difluoromethyl)-1-methyl-1H-pyrazole-4-carboxamide) in or on onion, bulb, subgroup 3-07A at 0.02 ppm and onion, green, subgroup 3-07B at 0.4 ppm. The multi-residue analytical method consisting of high pressure liquid chromatography with tandem mass spectrometry (LC/MS/MS) is used to measure and evaluate the chemical benzovindiflupyr. Contact: RD.

4. PP 6E8484. (EPA-HQ-OPP-2016-0475). IR-4, Rutgers, The State University of New Jersey, 500 College Road East, Suite 201 W., Princeton, NJ 08540, requests to establish tolerances in 40 CFR part 180.475 for residues of the fungicide difenoconazole, 1-[2-[2-chloro-4-(4-chlorophenoxy)phenyl]-4-methyl-1,3-dioxolan-2-ylmethyl]-1H-1,2,4,—triazole, including its metabolites and degradates, in or on brassica, leafy greens, subgroup 4-16B at 35 ppm; cranberry at 0.6 ppm; fruit, small, vine climbing, except fuzzy kiwifruit, subgroup 13-07F at 4.0 ppm; guava at 3.0 ppm; kohlrabi at 2.0 ppm; papaya at 0.6 ppm; and vegetable, brassica, head and stem, group 5-16 at 2.0 ppm. Available analytical methods for crops include gas chromatography (GC) equipped with a nitrogen-phosphorous detector; and LC/MS/MS; and for meat, milk, poultry or eggs, Syngenta's method, AG544A, is used to measure and evaluate the chemical difenoconazole. Contact: RD.

Amended Tolerances

1. PP 6E8482. (EPA-HQ-OPP-2016-0352). IR-4 Project, Rutgers, The State University of New Jersey, 500 College Road East, Suite 201 W, Princeton, NJ 08540, proposes upon establishment of tolerances referenced above under “New Tolerances” to remove existing tolerances in 40 CFR 180.442 for residues of the insecticide, Bifenthrin (2-methyl [1,1′-biphenyl]-3-yl) methyl-3-(2-chloro-3,3,3,-trifluoro-1-propenyl)-2,2-dimethylcyclopropanecarboxylate in or on apple at 0.5 parts per million (ppm) brassica, leafy greens, subgroup 5B at 3.5 ppm; caneberry, subgroup 13A at 1.0 ppm; eggplant 0.05 ppm; fruit, citrus, group 10 at 0.05 ppm; grape at 0.20 ppm; groundcherry 0.5 ppm; nectarine at 0.5 ppm; nut, tree, group 14 at 0.05 ppm; okra at 0.50 ppm; peach at 0.5 ppm; pear at 0.5 ppm; pepino 0.5 ppm; pepper, bell at 0.5 ppm; pepper, nonbell at 0.5 ppm; pistachio at 0.05 ppm; strawberry at 3.0 ppm; tomato at 0.15 ppm; and turnip, greens at 3.5 ppm. The GC/ECD is used to measure and evaluate the chemical bifenthrin. Contact: RD.

2. PP 6E8484. (EPA-HQ-OPP-2016-0475). IR-4, Rutgers, The State University of New Jersey, 500 College Road East, Suite 201 W., Princeton, NJ 08540, requests that upon establishing tolerances for this petition under “New Tolerances” above, 40 CFR part 180.475 is amended to remove existing tolerances for residues of the fungicide difenoconazole, 1-[2-[2-chloro-4-(4-chlorophenoxy)phenyl]-4-methyl-1,3-dioxolan-2-ylmethyl]-1H-1,2,4,—triazole, including its metabolites and degradates, in or on brassica, head and stem, subgroup 5A at 1.9 ppm, brassica, leafy greens, subgroup 5B at 35 ppm; grape at 4.0 ppm; and turnip, greens at 35 ppm. Contact: RD

Tolerance Exemptions

1. PP IN-10922. (EPA-HQ-OPP-2016-0487). Itaconix, 2 Marin Way, Stratham, NH 03885, requests to establish an exemption from the requirement of a tolerance for residues of butanedioic acid, 2-methylene-, telomer with sodium phosphinate (1:1), acidified, potassium salt, 4000 amu, (CAS Reg. No. 1663489-14-2) with a number-average molecular weight (in amu) of 3811 grams/mole when used as an inert ingredient in pesticide formulations under 40 CFR 180.960. The petitioner believes no analytical method is needed because it is not required for an exemption from the requirement of a tolerance. Contact: RD.

2. PP IN-10905. (EPA-HQ-OPP-2016-0472). Technology Sciences Group (1150 18th St., NW., Suite 1000, Washington, DC 20036) on behalf of Central Garden & Pet (1501 East Woodfield Road, Suite 200 West, Schaumburg, IL 60173) requests to establish an exemption from the requirement of a tolerance for residues of ethoxyquin (CAS Reg No. 91-53-2) when used as an inert ingredient (antioxidant and stabilizing agent) in pesticide formulations applied to animals under 40 CFR 180.930 at a concentration not to exceed 0.015% by weight (150 ppm) in finished feed-through pesticide formulations. The petitioner believes no analytical method is needed because it is not required for an exemption from the requirement of a tolerance. Contact: RD

Tolerance Exemption Amended

1. PP IN-10965. (EPA-HQ-OPP-2016-0500). Monsanto Company, 1300 I Street NW., Suite 450 East, Washington, DC 20005, requests to amend the exemption from the requirement of a tolerance in 40 CFR 180.910 for residues of mono-, di-, and trimethylnapthalenesulfonic acids and napthalenesulfonic acids formaldehyde condensates, ammonium and potassium salts (CAS Reg. Nos. 9008-63-3, 9069-80-1, 9084-06-4, 36290-04-7, 91078-68-1, 141959-43-5, 68425-94-5) to include the corresponding potassium salt (CAS Reg. No. 67828-14-2) when used as an inert ingredient (surfactant, related adjuvant of surfactant in pesticide formulations applied to growing crops and raw agricultural commodities after harvest. The petitioner believes no analytical method is needed because it is not required for an exemption from the requirement of a tolerance. Contact: RD.

Authority: 21 U.S.C. 346a.

Dated: September 30, 2016.
Michael Goodis,
Acting Director, Registration Division, Office of Pesticide Programs.

[FR Doc. 2016-25146 Filed 10-17-16; 8:45 am]

BILLING CODE 6560-50-P